ENVIRONMENTAL PROTECTION AGENCY

[9727-7]

National Pollutant Discharge Elimination System (NPDES): Draft General Permit for Point Source Discharges From New and Replacement Surface Discharging Wastewater Treatment Systems to Waters of the United States, Including to Conveyances to Waters of the United States, Including Interstate Waters That Flow Across or Form Part of the Boundary of Illinois and in All Areas of the State of Illinois

AGENCY: Environmental Protection Agency (EPA).

ACTION: Notice of draft general permit, open house, public hearing, and public comment period.

SUMMARY: EPA, Region 5 today is proposing an NPDES draft general permit for point source discharges of less than 1500 gallons per day from new and replacement surface discharging wastewater treatment systems to Waters of the United States, including to conveyances to Waters of the United States, including interstate waters that flow across or form part of the boundary of Illinois and in all areas of the State of Illinois. Once finalized, this permit will be available to eligible surface discharging system owners or operators who submit an administratively complete notice of intent to be covered by the general permit, including the technological and economic feasibility analyses. The permit will require compliance with certain effluent limitations and inspection, monitoring and reporting requirements. The Agency is asking the public for comments on the draft general permit. The permit and supporting documentation are available at: www.epa.gov/region5/water/npdestek/surfacedischarge/.

DATES: Today's action is effective on September 17, 2012. Comments on the draft general permit must be provided at the public hearing, or postmarked or delivered by electronic mail, on or before November 15, 2012.

ADDRESSES: Submit your comments by one of the following methods.

1. In person at the public hearing.

2. Email: il_psd_comments@epa.gov.

3. Mail to: Mark Ackerman, U.S. Environmental Protection Agency, Region 5, NPDES Programs Branch—WN-16J, 77 West Jackson Boulevard, Chicago, Illinois 60604-3590.

Open house and public hearing: EPA will hold an open house and a public hearing on the draft general permit at the University of Illinois at Springfield. The open house will be held in Public Affairs Center (PAC) Conference Room G, 2200 Ernest Hemingway Drive, in Springfield, IL 62703-5407, from 3:00 p.m. to 5:00 p.m., on November 1, 2012. EPA representatives will answer questions at the open house. The public hearing is for submitting oral and written comments and will be held in Brookens Auditorium, 2200 Ernest Hemingway Drive, in Springfield, IL 62703-5407, from 7:00 p.m. to 9:00 p.m., on November 1, 2012. If you wish to make an oral comment, sign in begins at 6:00 p.m. Speakers will appear in the order in which they sign in. A written transcript of the hearing will be made available to the public following the hearing.

SUPPLEMENTARY INFORMATION: To see the draft general permit and related documents, go to www.epa.gov/region5/water/npdestek/surfacedischarge/ or visit the EPA's Chicago regional office to view the full administrative record. To schedule an appointment at the Chicago office, or if you need special accommodations to attend the open house or public hearing, contact Mark Ackerman at 312-353-4145.

Authority: 33 U.S.C. 1251 et seq.

Dated: September 6, 2012.
Anthony Carrollo,
Deputy Director, Water Division, EPA Region 5.

[FR Doc. 2012-22759 Filed 9-14-12; 8:45 am]

BILLING CODE 6560-50-P